DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of intent to adopt the South Slough National Estuarine Research Reserve (NERR) Cooperative Conservation/Acquisition Plan as an amendment to the South Slough NERR Management Plan.

SUMMARY: The National Ocean Service announces the availability of the Draft Cooperative Conservation/Acquisition Plan (Plan) as an amendment to the South Slough National Estuarine Research Reserve (NERR) management plan adopted in 1994. The South Slough NERR is located in the Coos Bay Estuary in southern Oregon. The plan sets forth priorities and guidelines for acquisition and stewardship of properties within the South Slough watershed, Coos Bay watershed, and broader Columbian biogeographic region. The plan was developed to guide the use of the Gustafson bequest to the South Slough NERR which is to be used by the NERR for land acquisition purposes. An extensive public involvement process was pursued to develop the Plan.

The Cooperative Plan Advisory Committee (CPAC), made up of representatives of local business, real estate, environmental, and county, state and federal government interests was created to guide the development of the Plan. Two public meetings were held to receive comments on the Plan which were integrated into the current draft Plan.

DATES: Written comments will be accepted through March 2, 2001.

ADDRESSES: Written comments should be sent to Nina Garfield, NOAA-ERD, SSMC-4, 11th Floor, 1305 East West Hwy, Silver Spring, MD 20910.

FOR FURTHER INFORMATION AND A COPY OF THE PLAN CONTACT: Craig Cornu, Stewardship Coordinator, South Slough National Estuarine Research Reserve, P.O. Box 5417, Charleston, Oregon 97420, 541-888-2581 x 301.

SUPPLEMENTARY INFORMATION: Located in Coos Bay's South Slough inlet, the South Slough National Estuarine Research Reserve (NERR) was established in 1974 as the first in a nationwide system of coastal reserves dedicated to estuarine research, education and stewardship.

The South Slough NERR Cooperative Plan for Watershed Conservation (Plan) is intended to advance the stewardship goals of the South Slough NERR Management Plan (SSNERR, 1974) by guiding the Reserve's acquisition of new land management responsibilities. The cornerstone of the 1994 South Slough NERR Management Plan stewardship goal is “to ensure that the Reserves ecosystems will continue to be available for long-term estuarine research, education and interpretation.” The stewardship mission of the South Slough NERR also focuses on providing “stewardship for key examples of estuarine ecosystem types of the lower Columbian biogeographic region.” The proposed acquisition plan, therefore, looks at three geographic perspectives: (1) Estuarine ecosystems within or integrally linked to the present South Slough NERR administrative lands; (2) estuarine ecosystems associated with the Coos Bay watershed; and (3) estuarine ecosystems within the larger biogeographic region (the coastal area between the mouth of the Columbia River to the north and Cape Mendocino to the south).

The two driving forces behind the development of the proposed Plan are: (1) The findings of the Reserve's 1994 Management Plan, and (2) a $1.6 million bequest from a local Coos Bay resident, Chalmer Gustafson, for the sole purpose of acquiring additional land to be added to the South Slough NERR.

The proposed Plan is a program in which “acquisition” is defined to include a variety of actions, including fee simple purchase, easements, land donations, land exchanges, stewardship partnerships and others. It is strictly a “willing seller” program.

Upon approval by the South Slough NERR Management Commission, the proposed Plan will become part of the South Slough NERR Management Plan and the NERR Program of the National Oceanic and Atmospheric Administration (NOAA). To approve changes to the existing management plan, an opportunity for public comment must be provided. An extensive process of public input and comment has been undertaken for the development and review of the proposed plan. This Federal Register Notice provides additional opportunity for public comment.

Central to the development of the proposed Plan was the formation of the Cooperative Plan Advisory Committee (CPAC), made up of representatives of local business, real estate, environmental, and county, state and federal government interests. The CPAC had six meetings over an eight-month period in 1998-99, and presided over two public open house meetings. The CPAC, South Slough NERR staff, and the consultants worked together as a team to develop the foundation of the proposed Plan.

Through an iterative process involving South Slough NERR staff and the general public the CPAC developed acquisition goals to guide the proposed Plan development that resulted in the identification of an acquisition Planning Area comprised of seven Areas of Interest. Each Area of Interest was also assigned a level of effort or allocation of time and budget resources and property selection criteria.

Three principal acquisition goals led to the identification of the Areas of Interest and development of selection criteria: Goal (1) protect the lands within the current Reserve administrative boundary, emphasizing the need to acquire key landscape features within the South Slough watershed; Goal (2) provide diversity of habitat, emphasizing the Reserve's need to represent bioregional habitat types as required by NOAA; and Goal (3) address specific projects, emphasizing acquisitions that allow Reserve staff to respond to opportunities that will advance South Slough NERR research, education and stewardship objectives.

The Areas of Interest in which future acquisition efforts will be focused are described as follows:

Area of Interest 1—the Winchester Creek watershed. The Winchester Creek watershed was identified as the most critical property to protecting the South Slough mission and addressing the CPAC's goals and selection criteria because of its large size and landscape relationship to the South Slough NERR. Only 10% of the acquisition resources were recommended for targeting this Area of Interest due to the existing solid partnership between Coos County (major property owner) and the South Slough NERR.

Area of Interest 2—watersheds of the east-west streams which are tributary watersheds feeding into the existing South Slough NERR boundaries. The decision was reached that controlling the headwaters of creeks draining into Reserve bottomlands is a relatively high priority for protecting Reserve habitats and for enhancing opportunities for research initiatives. Therefore, the CPAC recommended that up to 30% of the acquisition resources be available to achieve the acquisition goals for this Area of Interest.

Area of Interest 3—the north watersheds of South Slough, including several tributaries, ocean inputs, and shorelines outside the South Slough watershed. Activities in the watershed tributary to South Slough outside the NERR boundaries, and in the waters of the Coos Bay and ocean immediately outside South Slough can have impacts on conditions inside the South Slough NERR boundary. Because of small parcel sizes and numerous owners, 25% of the acquisition resources were allocated by the CPAC to this Area of Interest.

Area of Interest 4—the town of Charleston, Oregon; This Area of Interest is identified in order to seek and respond to opportunities for a South Slough NERR presence in the town, such as an interpretive facility. Up to 15% of the acquisition resources were recommended by the CPAC for this Area of Interest.

Area of Interest 5—the existing South Slough NERR ownership. These lands are identified as an Area of Interest based on the finding that water and mineral rights associated with some of these parcels are owned by parties other than the State of Oregon, and these should be dealt with either through acquisition or agreement. A resource allocation level of 5% was identified for this Area of Interest.

Area of Interest 6—Coos Bay Estuary. Within this Area of Interest, the SSNERR will dedicate resources to negotiating partnerships on lands outside the immediate South Slough area, but within the Coos Estuary. This does not preclude fee simple purchases. A resource allocation of 10% is dedicated to this Area of Interest.

Area of Interest 7—biogeographic regional opportunities. Resources will be dedicated to negotiating partnerships on public lands outside the South Slough watershed, but within the greater biogeographic region for purposes of adding under-represented habitat types to the South Slough NERR program. Only 5% of the acquisition resources as recommended by the CPAC for this Area of Interest.

The Cooperative Plan presents information gathered on the Planning Area, including general property valuation and ownership. Mineral and water rights of the existing Reserve lands are also summarized. A landscape assessment is provided for the Planning Area, with information on the occurrence of habitat types that are not presently represented in the Reserve.

The Cooperative Plan recognizes the need to leverage the Gustafson bequest using grant or other funds.

Federal Domestic Assistance Catalog Number 11.420 (Coastal Zone Management) Research Reserves
Dated: January 17, 2001.
Ted I. Lillestolen,
Deputy Assistant Administrator, for Ocean Services and Coastal Zone Management.

[FR Doc. 01-1948 Filed 1-22-01; 8:45 am]

BILLING CODE 3510-08-P